COMMISSION ON CIVIL RIGHTS

Agenda and Notice of Public Meeting of the New York Advisory Committee

AGENCY: Commission on Civil Rights.

ACTION: Announcement of meeting.

SUMMARY: Notice is hereby given, pursuant to the provisions of the rules and regulations of the U.S. Commission on Civil Rights (Commission), and the Federal Advisory Committee Act (FACA), that a planning meeting of the New York Advisory Committee to the Commission will convene at 12:30 p.m. (EDT) on Wednesday, August 3, 2016 at the Midtown Conference Center of Sullivan & Cromwell, located at 535 Madison Ave., New York, NY 10022. The purpose of the planning meeting is for staff to conduct an orientation for new and returning members and for the Advisory Committee to discuss project planning for its new appointment term.

Persons needing accessibility services should contact the Eastern Regional Office at least ten (10) working days before the scheduled date of the meeting. Please contact Evelyn Bohor at eroATisccr.gov.

Members of the public are invited to submit written comments; the comments must be received in the regional office by Monday, September 5, 2016. Written comments may be mailed to the Eastern Regional Office, U.S. Commission on Civil Rights, 1331 Pennsylvania Avenue, Suite 1150, Washington, DC 20425, faxed to (202) 376-7548, or emailed to Evelyn Bohor at eroATusccr.gov. Persons who desire additional information may contact the Eastern Regional Office at (202) 376-7533.

Records and documents discussed during the meeting will be available for public viewing as they become available at: https://database.faca.gov/committee/meetings.aspx?cid=265 and clicking on the “Meeting Details” and “Documents” links. Records generated from this meeting may also be inspected and reproduced at the Eastern Regional Office, as they become available, both before and after the meeting. Persons interested in the work of this advisory committee are advised to go to the Commission's Web site, www.usccr.gov, or to contact the Eastern Regional Office at the above phone number, email or street address.

Agenda

I. Welcome and Introductions

—Rollcall

Planning Meeting

—Discuss Project Planning

II. Other Business

Adjournment

DATES: Wednesday, August 3, 2016 at 12:00 p.m. (EDT).

ADDRESSES: The meeting will be held at: Sullivan & Cromwell, Midtown Conference Center, 535 Madison Ave., New York, NY 10022.

FOR FURTHER INFORMATION CONTACT: Ivy L. Davis, DFO, ero@usccr.gov, 202-376-7533.

Dated: July 19, 2016.
David Mussatt,
Chief, Regional Programs Unit.

[FR Doc. 2016-17354 Filed 7-21-16; 8:45 am]

BILLING CODE 6335-01-P